DEPARTMENT OF AGRICULTURE

Forest Service

National Advisory Committee for Implementation of the National Forest System Land Management Planning Rule

AGENCY: USDA Forest Service.

ACTION: Notice of intent to establish an advisory committee and call for nominations.

SUMMARY: The Secretary of Agriculture intends to establish the National Advisory Committee for Implementation of the National Forest System Land Management Planning Rule (Committee). In accordance with provisions of the Federal Advisory Committee Act (FACA), the Committee is being established to provide advice and recommendations on the implementation of the National Forest System Land Management Planning Rule (Planning Rule). The Committee is necessary and in the public interest. Therefore, the Secretary of Agriculture is seeking nominations for individuals to be considered as committee members. The public is invited to submit nominations for membership.

DATES: Written nominations must be received by February 13, 2012. Nominations must contain a completed application packet that includes the nominee's name, resume, and completed form AD-755 (Advisory Committee Membership Background Information). The form AD-755 may be obtained from Forest Service contact person or from the following Web site: http://www.fs.usda.gov/Internet/FSE_DOCUMENTS/stelprdb5203568.pdf. The package must be sent to the address below.

ADDRESSES: Send nominations and applications to Angela Gee, USDA Forest Service, National Forest System, Mail Stop 1106, 201 14th Street SW., Washington, DC 20025 by express mail or overnight courier service. If sent via the U.S. Postal Service, they must be sent to the following address: U.S. Department of Agriculture, Forest Service, National Forest System, Mail Stop 1106, 1400 Independence Avenue SW., Washington, DC 20250-1106.

FOR FURTHER INFORMATION CONTACT: Tony Tooke, U.S. Department of Agriculture, Forest Service, National Forest System, Ecosystem Management Coordination; telephone: (202) 205-0830, fax: (202) 205-1758, or email: ttooke@fs.fed.us. Individuals who use telecommunication devices for the deaf (TDD) may call the Federal Information Relay Service (FIRS) at 1-(800) 877-8339 between 8 a.m. and 8 p.m., Eastern Standard Time, Monday through Friday.

SUPPLEMENTARY INFORMATION:

Background

In accordance with the provisions of the Federal Advisory Committee Act (FACA), as amended (5 U.S.C. App. 2) and with the concurrence of the General Services Administration (GSA), the Secretary of Agriculture intends to establish the National Advisory Committee for Implementation of the National Forest System Land Management Planning Rule. The Committee will be a discretionary advisory committee. The Committee will operate under the provisions of FACA and will report to the Secretary of Agriculture through the Chief of the Forest Service.

The purpose of the Committee is to provide advice and recommendations on implementation of the planning rule. The Committee will be asked to perform the following duties or other requests made by the Secretary of Agriculture or the Chief of the Forest Service:

1. Review the content of and provide recommendations on directives related to implementation of the planning rule;

2. Offer recommendations on implementation of the planning rule, based on lessons learned and best practices from on-going or completed assessments, revisions, and monitoring strategies;

3. Offer recommendations on new best practices that could be implemented based on lessons learned;

4. Offer recommendations for consistent interpretation of the rule where ambiguities cause difficulty in implementation of the rule;

5. Offer recommendations for effective ongoing monitoring and evaluation, including broadscale monitoring, for implementation of the planning rule;

6. Offer recommendations on how to foster an effective ongoing collaborative framework to ensure engagement of Federal, State, local and Tribal governments; private organizations and affected interests; the scientific community; and other stakeholders; and

7. Offer recommendations for integrating the land management planning process with landscape scale restoration activities through implementation of the planning rule.

Advisory Committee Organization

This Committee will be comprised of not more than 21 members who provide balanced and broad representation within each of the following three categories of interests:

1. Up to 7 members who represent one or more of the following:

a. Represent the affected public at-large

b. Hold State-elected office (or designee)

c. Hold county or local elected office

d. Represent American Indian Tribes

e. Represent Youth

2. Up to 7 members who represent one or more of the following:

a. National, regional, or local environmental organizations

b. Conservation organizations or watershed associations

c. Dispersed recreation interests

d. Archaeological or historical interests

e. Scientific Community

3. Up to 7 members who represent one or more of the following:

a. Timber Industry

b. Grazing or other land use permit holders or other private forest landowners

c. Energy and mineral development

d. Commercial or recreational hunting and fishing interests

e. Developed outdoor recreation, off-highway vehicle users, or commercial recreation interests

No individual who is currently registered as a Federal lobbyist is elegible to serve as a member of the Committee.

The Committee will meet three to four times annually or as often as necessary and at such times as designated by the Designated Federal Official (DFO).

The appointment of members to the Committee will be made by the Secretary of Agriculture. Any individual or organization may nominate one or more qualified persons to serve on the National Advisory Committee for Implementation of the Planning Rule. Individuals may also nominate themselves. To be considered for membership, nominees must submit a:

1. Resume describing qualifications for membership to the Committee;

2. Cover letter with a rationale for serving on the committee and what you can contribute; and

3. Complete form AD-755, Advisory Committee Membership Background Information.

Letters of recommendation are welcome. The form AD-755 may be obtained from Forest Service contact person or from the following Web site: http://www.fs.usda.gov/Internet/FSE_DOCUMENTS/stelprdb5203568.pdf. All nominations will be vetted by USDA. The Secretary of Agriculture will appoint committee members to the National Advisory Committee for Implementation of the National Forest System Land Management Planning Rule from the list of qualified applicants.

Members of the Committee will serve without compensation, but may be reimbursed for travel expenses while performing duties on behalf of the Committee, subject to approval by the DFO.

Equal opportunity practices in accordance with U.S. Department of Agriculture (USDA) policies will be followed in all appointments to the committee. To ensure that the recommendations of the Committee have taken into account the needs of the diverse groups served by USDA, membership shall include to the extent possible, individuals with demonstrated ability to represent minorities, women, and persons with disabilities.

Dated: December 23, 2011.
Pearlie S. Reed,
Assistant Secretary of Administration.

[FR Doc. 2011-33535 Filed 12-27-11; 11:15 am]

BILLING CODE 3410-11-P